FEDERAL RETIREMENT THRIFT INVESTMENT BOARD

Privacy Act of 1974

AGENCY: Federal Retirement Thrift Investment Board.

ACTION: Notice; initial publication of systems of records.

SUMMARY: This notice is being published pursuant to the Privacy Act of 1974 (5 U.S.C. 552a), as amended, in order to update and create systems of records established by a Federal agency containing information on individuals.

EFFECTIVE DATE: This proposed action will be effective without further notice on September 24, 2008 unless comments are received which result in a contrary determination.

ADDRESSES: Comments may be sent to Megan Graziano, Assistant General Counsel, Federal Retirement Thrift Investment Board, 1250 H Street, NW., Washington, DC 20005. The Agency's fax number is (202) 942-1676.

FOR FURTHER INFORMATION CONTACT: Megan Graziano at (202) 942-1660.

SUPPLEMENTARY INFORMATION: FRTIB-2, Personnel Security Files, updates Agency systems of records so that they are compliant with both HSPD-12 and the Privacy Act and conform to the Privacy Act notices on the standard forms which are used to initiate the HSPD-12 process. FRTIB-10, Identity Management Systems, covers the HSPD-12 process after adjudication determines the individual can receive an identification card. FRTIB-10 includes both mandatory and optional information necessary to the request for a card, registration, verification, and issuance procedures, the index/database of active and invalid cards, and the information stored on the cards. FRTIB-10 may include records maintained by agencies of individuals who entered and exited facilities or accessed systems.

The proposed system reports, as required by 5 U.S.C. 552a(r), of the Privacy Act of 1974, as amended, were submitted to the House Committee on Government Reform, the Senate Committee on Homeland Security and Government Affairs, and the Office of Management and Budget (OMB) pursuant to paragraph 4c of Appendix I to OMB Circular No. A-130, “Federal Agency Responsibilities for Maintaining Records About Individuals,” dated February 8, 1996 (February 20, 1996, 61 FR 6427).

Thomas K. Emswiler,
General Counsel, Federal Retirement Thrift Investment Board.

FRTIB-2

SYSTEM NAME:

Personnel Security Files.

SYSTEM LOCATION:

Federal Retirement Thrift Investment Board, 1250 H Street, NW., Washington, DC 20005.

SECURITY CLASSIFICATION:

Most personnel identity verification records are not classified. However, in some cases, records of certain individuals, or portions of some records, may be classified in the interest of national security.

CATEGORIES OF INDIVIDUALS COVERED BY THE SYSTEM:

Individuals who require regular, ongoing access to federal facilities, information technology systems, or information classified in the interest of national security, including applicants for employment or contracts, federal employees, contractors, students, interns, volunteers, affiliates, individuals authorized to perform or use services provided in Agency, and individuals formerly in any of these positions. The system also includes individuals accused of security violations or found in violation of security policies.

CATEGORIES OF RECORDS IN THE SYSTEM:

Name, former names, birth date, birth place, Social Security number, home address, phone numbers, employment history, residential history, education and degrees earned, names of associates and references and their contact information, citizenship, names of relatives, birth dates and places of relatives, citizenship of relatives, names of relatives who work for the federal government, criminal history, mental health history, drug use, financial information, fingerprints, summary report of investigation, results of suitability decisions, level of security clearance, date of issuance of security clearance, requests for appeal, witness statements, investigator's notes, tax return information, credit reports, security violations, circumstances of violation, and agency action taken.

Forms: SF-85, SF-85P, SF-86, SF-87, FRTIB-2008.

AUTHORITY FOR MAINTENANCE OF THE SYSTEM:

Depending upon the purpose of your investigation, the Federal Retirement Thrift Investment Board is authorized to ask for this information under Executive Orders 10450, 10865, 12333, and 12356; sections 3301 and 9101 of title 5, U.S. Code; sections 2165 and 2201 of title 42, U.S. Code; sections 781 to 887 of title 50, U.S. Code; parts 5, 732, and 736 of title 5, Code of Federal Regulations; and Homeland Security Presidential Directive 12 Homeland Security Presidential Directive (HSPD) 12, Policy for a Common Identification Standard for Federal Employees and Contractors, August 27, 2004.

PURPOSE(S):

The records in this system of records are used to document and support decisions regarding clearance for access to classified information, the ability to receive and the suitability, eligibility, and fitness for service of applicants for federal employment and contract positions, including students, interns, or volunteers to the extent their duties require access to federal facilities, information, systems, or applications. The records may be used to document security violations and supervisory actions taken.

ROUTINE USES OF RECORDS MAINTAINED IN THE SYSTEM, INCLUDING CATEGORIES OF USERS AND THE PURPOSES OF SUCH USES:

To the Department of Justice when: (a) The FRTIB; (b) any employee of the FRTIB in his or her official capacity; (c) any employee of the FRTIB in his or her individual capacity where the FRTIB or the Department of Justice has agreed to represent the employee; or (d) the United States Government, is a party to litigation or has an interest in such litigation, and by careful review, the FRTIB determines that the records are both relevant and necessary to the litigation and the use of such records by DOJ is therefore deemed by the FRTIB to be for a purpose compatible with the purpose for which the FRTIB collected the records.

To a court or adjudicative body in a proceeding when: (a) The FRTIB; (b) any employee of the FRTIB in his or her official capacity; (c) any employee of the FRTIB in his or her individual capacity where the FRTIB or the Department of Justice has agreed to represent the employee; or (d) the United States Government, is a party to litigation or has an interest in such litigation, and by careful review, the FRTIB determines that the records are both relevant and necessary to the litigation and the use of such records is therefore deemed by the FRTIB to be for a purpose that is compatible with the purpose for which the FRTIB collected the records.

Except as noted on Forms SF-85, SF-85P, SF-86, or FRTIB-2008, when a record on its face, or in conjunction with other records, indicates a violation or potential violation of law, whether civil, criminal, or regulatory in nature, and whether arising by general statute or particular program statute, or by regulation, rule, or order issued pursuant thereto, disclosure may be made to the appropriate public authority, whether Federal, foreign, State, local, or tribal, or otherwise, responsible for enforcing, investigating or prosecuting such violation or charged with enforcing or implementing the statute, or rule, regulation, or order issued pursuant thereto, if the information disclosed is relevant to any enforcement, regulatory, investigative or prosecutorial responsibility of the receiving entity.

To a Member of Congress or to a Congressional staff member in response to an inquiry of the Congressional office made at the written request of the constituent about whom the record is maintained.

To the National Archives and Records Administration or to the General Services Administration for records management inspections conducted under 44 U.S.C. 2904 and 2906.

To FRTIB contractors, grantees, or volunteers who have been engaged to assist the agency in the performance of a contract service, grant, cooperative agreement, or other activity related to this system of records and who need to have access to the records in order to perform their activity. Recipients shall be required to comply with the requirements of the Privacy Act of 1974, as amended, 5 U.S.C. 552a.

To any source or potential source from which information is requested in the course of an investigation concerning the retention of an employee or other personnel action (other than hiring), or the retention of a security clearance, contract, grant, license, or other benefit, to the extent necessary to identify the individual, inform the source of the nature and purpose of the investigation, and to identify the type of information requested.

To a Federal, State, local, foreign, or tribal or other public authority the fact that this system of records contains information relevant to the retention of an employee, the retention of a security clearance, the letting of a contract, or the issuance or retention of a license, grant, or other benefit. The other agency or licensing organization may then make a request supported by the written consent of the individual for the entire record if it so chooses. No disclosure will be made unless the information has been determined to be sufficiently reliable to support a referral to another office within the agency or to another Federal agency for criminal, civil, administrative personnel or regulatory action.

To the news media or the general public, factual information the disclosure of which would be in the public interest and which would not constitute an unwarranted invasion of personal privacy, consistent with Freedom of Information Act standards.

To a Federal, State, or local agency, or other appropriate entities or individuals, or through established liaison channels to selected foreign governments, in order to enable an intelligence agency to carry out its responsibilities under the National Security Act of 1947 as amended, the CIA Act of 1949 as amended, Executive Order 12333 or any successor order, applicable national security directives, or classified implementing procedures approved by the Attorney General and promulgated pursuant to such statutes, orders or directives.

To the Office of Management and Budget when necessary to the review of private relief legislation pursuant to OMB Circular No. A-19.

POLICIES AND PRACTICES FOR STORING, RETRIEVING, ACCESSING, RETAINING AND DISPOSING OF RECORDS IN THE SYSTEM:

STORAGE:

Records are stored on paper and electronically in a secure location.

RETRIEVABILITY:

Background investigation files are retrieved by name, Social Security number (SSN), or fingerprint.

SAFEGUARDS:

Records are maintained in secured areas and electronic systems and are available only to authorized personnel whose duties require access.

RETENTION AND DISPOSAL:

These records are retained and disposed of in accordance with General Records Schedule 18, item 22a, approved by the National Archives and Records Administration (NARA). The records are disposed in accordance with FRTIB disposal policies which call for burning or shredding or purging from the Agency's electronic record keeping systems. Records are destroyed upon notification of death or not later than five years after separation or transfer of employee to another agency or department, whichever is applicable.

SYSTEM MANAGERS AND ADDRESS:

The Chief Financial officer maintains the Agency's electronic background information data and all other records in FRTIB-2. The Chief Financial Officer may be contacted in writing at 1250 H Street, NW., Washington, DC 20005.

NOTIFICATION PROCEDURE:

Individuals seeking to determine whether this system of records contains information about themselves should send inquiries to the Chief Financial Officer at Federal Retirement Thrift Investment Board, 1250 H Street, NW., Washington, DC 20005. When requesting notification of or access to records covered by FRTIB-2, an individual should provide his/her full name, date of birth, Social Security number, and home address in order to establish identity.

RECORDS ACCESS PROCEDURES:

Individuals wishing to request access to records about themselves should contact the Chief Financial Officer. Individuals must supply their full name for their records to be located and identified.

CONTESTING RECORD PROCEDURES:

Individuals wishing to request amendment of their records under the provisions of the Privacy Act should contact the Chief Financial Officer. Individuals must furnish their full names for their records to be located and identified. Individuals should also reasonably identify the record, specify the information they are contesting, state the corrective action sought and the reasons for the correction along with supporting justification showing why the record is not accurate, timely, relevant, or complete. Rules regarding amendment of Privacy Act records appear in 5 CFR part 1630.

RECORD SOURCE CATEGORIES:

Information is obtained from a variety of sources including the employee, contractor, or applicant via use of the SF-85, SF-85P, SF-86, or FRTIB-2008, and personal interviews; employers' and former employers' records; FBI criminal history records and other databases; financial institutions and credit reports; medical records and health care providers; educational institutions; interviews of witnesses such as neighbors, friends, co-workers, business associates, teachers, landlords, or family members; tax records; and other public records. Security violation information is obtained from a variety of sources, such as guard reports, security inspections, witnesses, supervisor's reports, audit reports.

SYSTEMS EXEMPTED FROM CERTAIN PROVISIONS OF THE PRIVACY ACT:

Upon publication of a final rule in the Federal Register, this system of records will be exempt in accordance with 5 U.S.C. 552a(k)(5). Information will be withheld to the extent it identifies witnesses promised confidentiality as a condition of providing information during the course of the background investigation.

FRTIB-10

SYSTEM NAME:

Identity Management System (IDMS).

SYSTEM LOCATION:

Federal Retirement Thrift Investment Board, 1250 H Street, NW., Washington DC 20005. Some data covered by this system may be at Federal buildings and Federally-leased space where staffed guard-stations have been established in facilities that have installed the Personal Identity Verification (PIV) system, as well as the physical security offices or computer security offices of those locations.

SECURITY CLASSIFICATION:

Most identity records are not classified. However, in some cases, records of certain individuals, or portions of some records, may be classified in the interest of national security.

CATEGORIES OF INDIVIDUALS COVERED BY THE SYSTEM:

Individuals who require regular, ongoing access to Agency facilities, information technology systems, or information classified in the interest of national security, including applicants for employment or contracts, federal employees, contractors, students, interns, volunteers, affiliates, and individuals formerly in any of these positions. The system also includes individuals authorized to perform or use services provided in agency facilities.

The system does not apply to occasional visitors or short-term guests to whom the Federal Retirement Thrift Investment Board will issue temporary identification and credentials.

CATEGORIES OF RECORDS IN THE SYSTEM:

Records maintained on individuals issued credentials by the Federal Retirement Thrift Investment Board include the following data fields: Full name, Social Security number; date of birth; signature; image (photograph); fingerprints; hair color; eye color; height; weight; organization/office of assignment; company name; telephone number; copy of background investigation form; PIV card issue and expiration dates; personal identification number (PIN); results of background investigation; PIV request form; PIV registrar approval signature; PIV card serial number; emergency responder designation; copies of documents used to verify identification or information derived from those documents such as document title, document issuing authority, document number, document expiration date, document other information); level of national security clearance and expiration date; computer system user name; user access and permission rights, authentication certificates; digital signature information.

Records maintained on card holders entering Federal Retirement Thrift Investment Board facilities or using Federal Retirement Thrift Investment Board systems include: Name, PIV Card serial number; date, time, and location of entry and exit; company name; level of national security clearance and expiration date; digital signature information; computer networks/applications/data accessed.

AUTHORITY FOR MAINTENANCE OF THE SYSTEM:

5 U.S.C. 301; Federal Information Security Act (Pub. L. 104-106, sec. 5113); Electronic Government Act (Pub. L. 104-347, sec. 203); the Paperwork Reduction Act of 1995 (44 U.S.C. 3501); and the Government Paperwork Elimination Act (Pub. L. 105-277, 44 U.S.C. 3504); Homeland Security Presidential Directive (HSPD) 12, Policy for a Common Identification Standard for Federal Employees and Contractors, August 27, 2004; Federal Property and Administrative Act of 1949, as amended.

PURPOSES:

The primary purposes of the system are: (a) To ensure the safety and security of Federal Retirement Thrift Investment Board facilities, systems, or information, and our occupants and users; (b) To verify that all persons entering federal facilities, using federal information resources, or accessing classified information are authorized to do so; (c) to track and control PIV cards issued to persons entering and exiting the facilities, using systems, or accessing classified information.

ROUTINE USES OF RECORDS MAINTAINED IN THE SYSTEM INCLUDING CATEGORIES OF USERS AND THE PURPOSES OF SUCH USES:

Information about covered individuals may be disclosed without consent as permitted by the Privacy Act of 1974, 5 U.S.C. 552a(b), and:

To the Department of Justice when: (a) The FRTIB; or (b) any employee of the FRTIB in his or her official capacity; (c) any employee of the FRTIB in his or her individual capacity where the FRTIB or the Department of Justice has agreed to represent the employee; or (d) the United States Government, is a party to litigation or has an interest in such litigation, and by careful review, the FRTIB determines that the records are both relevant and necessary to the litigation and the use of such records by DOJ is therefore deemed by the agency to be for a purpose compatible with the purpose for which the FRTIB collected the records.

To a court or adjudicative body in a proceeding when: (a) The FRTIB; (b) any employee of the FRTIB in his or her official capacity; (c) any employee of the FRTIB in his or her individual capacity where the FRTIB or the Department of Justice has agreed to represent the employee; or (d) the United States Government, is a party to litigation or has an interest in such litigation, and by careful review, the FRTIB determines that the records are both relevant and necessary to the litigation and the use of such records is therefore deemed by the FRTIB to be for a purpose that is compatible with the purpose for which the agency collected the records.

Except as noted on Forms SF-85, SF-85P, SF-86, or FRTIB-2008, when a record on its face, or in conjunction with other records, indicates a violation or potential violation of law, whether civil, criminal, or regulatory in nature, and whether arising by general statute or particular program statute, or by regulation, rule, or order issued pursuant thereto, disclosure may be made to the appropriate public authority, whether Federal, foreign, State, local, or tribal, or otherwise, responsible for enforcing, investigating or prosecuting such violation or charged with enforcing or implementing the statute, or rule, regulation, or order issued pursuant thereto, if the information disclosed is relevant to any enforcement, regulatory, investigative or prosecutorial responsibility of the receiving entity.

To a Member of Congress or to a Congressional staff member in response to an inquiry of the Congressional office made at the written request of the constituent about whom the record is maintained.

To the National Archives and Records Administration or to the General Services Administration for records management inspections conducted under 44 U.S.C. 2904 and 2906.

To FRTIB contractors, grantees, or volunteers who have been engaged to assist the FRTIB in the performance of a contract service, grant, cooperative agreement, or other activity related to this system of records and who need to have access to the records in order to perform their activity. Recipients shall be required to comply with the requirements of the Privacy Act of 1974, as amended, 5 U.S.C. 552a.

To a Federal, State, local, foreign, or tribal or other public authority the fact that this system of records contains information relevant to the retention of an employee, the retention of a security clearance, the letting of a contract, or the issuance or retention of a license, grant, or other benefit. The other agency or licensing organization may then make a request supported by the written consent of the individual for the entire record if it so chooses. No disclosure will be made unless the information has been determined to be sufficiently reliable to support a referral to another office within the agency or to another Federal agency for criminal, civil, administrative personnel or regulatory action.

To the Office of Management and Budget when necessary to the review of private relief legislation pursuant to OMB Circular No. A-19.

To a Federal, State, or local agency, or other appropriate entities or individuals, or through established liaison channels to selected foreign governments, in order to enable an intelligence agency to carry out its responsibilities under the National Security Act of 1947 as amended, the CIA Act of 1949 as amended, Executive Order 12333 or any successor order, applicable national security directives, or classified implementing procedures approved by the Attorney General and promulgated pursuant to such statutes, orders or directives.

To notify another federal agency when, or verify whether, a PIV card is no longer valid.

To the news media or the general public, factual information the disclosure of which would be in the public interest and which would not constitute an unwarranted invasion of personal privacy, consistent with Freedom of Information Act standards.

Note: Disclosures within the Federal Retirement Thrift Investment Board of data pertaining to date and time of entry and exit of an agency employee working in the District of Columbia may not be made to supervisors, managers or any other persons (other than the individual to whom the information applies) to verify employee time and attendance record for personnel actions because 5 U.S.C. 6106 prohibits Federal Executive agencies (other than the Bureau of Engraving and Printing) from using a recording clock within the District of Columbia, unless used as a part of a flexible schedule program under 5 U.S.C. 6120 et seq.

POLICIES AND PRACTICES FOR STORING, RETRIEVING, ACCESSING, RETAINING, AND DISPOSING OF RECORDS IN THE SYSTEM:

STORAGE:

Records are stored on paper and electronically in a secure location.

RETRIEVABILITY:

Identity records are retrieved by name, Social Security number (SSN), or fingerprint.

SAFEGUARDS:

Records are maintained in secured areas and electronic systems and are available only to authorized personnel whose duties require access. Access to individuals working at guard stations will be password-protected; each person granted access to the system at guard stations must be individually authorized to use the system. A Privacy Act Warning Notice will appear on the monitor screen when records containing information on individuals are first displayed. Data exchanged between the servers and the client PCs at the guard stations and badging office will be encrypted. Backup tapes will be stored in a locked and controlled room in a secure, off-site location. An audit trail is maintained and reviewed periodically to identify unauthorized access. Persons given roles in the PIV process will be required to complete training specific to their roles to ensure they are knowledgeable about how to protect individually identifiable information.

RETENTION AND DISPOSAL:

These records are retained and disposed of in accordance with General Records Schedule 18, item 22a, approved by the National Archives and Records Administration (NARA). The records are disposed in accordance with our disposal policies which call for burning or shredding or purging from the Agency's electronic record keeping systems. Records are destroyed upon notification of death or not later than five years after separation or transfer of employee to another agency or department, whichever is applicable.

Records relating to persons' access covered by this system are retained in accordance with General Records Schedule 18, Item 17 approved by the National Archives and Records Administration (NARA). The records are disposed in accordance with our disposal policies which call for burning or shredding or purging from the Agency's electronic record keeping systems. Unless retained for specific, ongoing security investigations, records are maintained for two years and then destroyed.

All other records relating to individuals are retained and disposed of in accordance with General Records Schedule 18, item 22a, approved by NARA. The records are disposed in accordance with our disposal policies which call for burning or shredding or purging from the Agency's electronic record keeping systems. Records are destroyed upon notification of death or not later than five years after separation or transfer of employee, whichever is applicable.

In accordance with HSPD-12, PIV Cards are deactivated within 18 hours of cardholder separation, loss of card, or expiration. The information on PIV Cards is maintained in accordance with General Records Schedule 11, Item 4. PIV Cards are destroyed by cross-cut shredding no later than 90 days after deactivation.

SYSTEM MANAGERS AND ADDRESS:

The Chief Financial Officer maintains the Agency's electronic identity data and all other records in FRTIB-10. The Chief Financial Officer may be contacted in writing at 1250 H Street, NW., Washington, DC 20005.

NOTIFICATION PROCEDURE:

Individuals seeking to determine whether this system of records contains information about themselves should send inquiries to the Chief Financial Officer at Federal Retirement Thrift Investment Board, 1250 H Street, NW., Washington, DC 20005. When requesting notification of or access to records covered by FRTIB-10, an individual should provide his/her full name, date of birth, social security number, and home address in order to establish identity.

RECORDS ACCESS PROCEDURES:

Individuals wishing to request access to records about themselves should contact the Chief Financial Officer. Individuals must supply their full names for their records to be located and identified.

CONTESTING RECORD PROCEDURES:

Individuals wishing to request amendment of their records under the provisions of the Privacy Act should contact the Chief Financial Officer. Individuals must furnish full name for their records to be located and identified. Individuals should also reasonably identify the record, specify the information they are contesting, state the corrective action sought and the reasons for the correction along with supporting justification showing why the record is not accurate, timely, relevant, or complete. Rules regarding amendment of Privacy Act records appear in 5 CFR part 1630.

RECORD SOURCE CATEGORIES:

Information is obtained from a variety of sources including the employee, contractor, or applicant via use of the SF-85, SF-85P, SF-86, or FRTIB-2008, and personal interviews; employers' and former employers' records; FBI criminal history records and other databases; financial institutions and credit reports; medical records and health care providers; educational institutions; interviews of witnesses such as neighbors, friends, co-workers, business associates, teachers, landlords, or family members; tax records; and other public records. Security violation information is obtained from a variety of sources, such as guard reports, security inspections, witnesses, supervisor's reports, audit reports.

SYSTEMS EXEMPTED FROM CERTAIN PROVISIONS OF THE PRIVACY ACT:

Upon publication of a final rule in the Federal Register, this system of records will be exempt in accordance with 5 U.S.C. 552a(k)(5). Information will be withheld to the extent it identifies witnesses promised confidentiality as a condition of providing information during the course of the background investigation.

[FR Doc. E8-19590 Filed 8-22-08; 8:45 am]

BILLING CODE 6760-01-P